DEPARTMENT OF HEALTH AND HUMAN SERVICES

Centers for Disease Control and Prevention

[30Day-14-13YQ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Institutional Awareness and Commitment to Ensuring Safe, Stable, and Nurturing Relationships and Environments for Children and Prevention Child Maltreatment—New—National Center for Injury Prevention and Control (NCIPC)—Centers for Disease Control and Prevention (CDC).

Background and Brief Description

Safe, stable, nurturing relationships and environments set children on a positive trajectory for optimal child development and health, provide a buffer against the effects of adverse child experiences, are fundamental to healthy brain development and have a positive impact on a broad range of health problems across the life course. Promoting safe, stable, nurturing relationships and environments may also reduce child maltreatment which is a significant public health problem affecting physical and emotional health throughout the lifespan.

NCIPC has funded five state health departments in Fiscal Year 2014 to coordinate and manage existing and new partnerships with other sectors to promote safe, stable, nurturing relationships and environments for children; and work with partners to identify strategies across sectors that promote safe, stable, nurturing relationships and environments. CDC requests OMB approval for two years to collect information that will establish the baseline level of state health departments' and partners' awareness and commitment to ensuring safe, stable, and nurturing relationships and environments for children and preventing child maltreatment.

Information will be collected over a 2-year period from 3 staff members from each of the 5 health departments (15 respondents), and 3 staff members from each of the 5 health departments' 10 partner organizations (150 respondents)—for a total of 165 respondents (83 respondents per year). Information will be collected once using SurveyMonkey®, an electronic web-based interface which is a secure Web site that meets the Safe Harbor and European Union data protection requirements. This ICR will only collect data pertaining to organizations. No individual identifiable information will be requested.

Each grantee will receive a personalized advance notification letter, followed by an email with a link to the SurveyMonkey® site. In turn, the grantee will send a personalized advance notification letter, followed by an email with a link to the SurveyMonkey® site to each new partner throughout the funding period. CDC will use this information to establish state health departments' and partners' level of awareness and commitment at the start of the funding period.

There are no costs to respondents other than their time. The total estimated annual burden hours are 39.

Estimated Annualized Burden Hours
Type of respondents | Form name | Number of respondents | Number of responses per respondent | Average burden per response (in hrs.)
Health Departments | Institutional awareness and commitment survey | 8 | 1 | 28/60
Partner Organizations | Institutional awareness and commitment survey | 75 | 1 | 28/60

Leroy A. Richardson,
Chief, Information Collection Review Office, Office of Scientific Integrity, Office of the Associate Director for Science, Office of the Director, Center for Disease Control and Prevention.

[FR Doc. 2014-02670 Filed 2-6-14; 8:45 am]

BILLING CODE 4163-18-P